DEPARTMENT OF THE TREASURY

Submission for OMB Review; Comment Request

November 16, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before December 28, 2001 to be assured of consideration.

Bureau of Alcohol, Tobacco and Firearms (BATF)

OMB Number: 1512-0353.

Recordkeeping Requirement ID Number: ATF REC 5170/2.

Type of Review: Extension.

Title: Wholesale Dealers Records of Receipt of Alcoholic Beverages, Disposition of Distilled Spirits, and Monthly Summary Report.

Description: An accounting tool, this record is used to show the person from whom a wholesale dealer purchased alcoholic beverages, and the person to whom the dealer sold alcoholic beverages. When required, the monthly report will provide a report of sales activities and on-hand inventory quantities.

Respondents: Business or other for-profit.

Estimated Number of Recordkeepers: 50.

Estimated Burden Hours Per Recordkeeper: 2 hours.

Frequency of Response: On occasion, Monthly.

Estimated Total Recordkeeping Burden: 1,200 hours.

OMB Number: 1512-0379.

Recordkeeping Requirement ID Number: ATF REC 5530/2.

Type of Review: Extension.

Title: Manufacturers of Nonbeverage Products—Records to Support Claims for Drawback.

Description: Records required to be maintained by manufacturers of nonbeverage products are used to verify claims for drawback of taxes and hence, protect the revenue. Maintains accountability; allows tracing of spirits by audit.

Respondents: Business or other for-profit.

Estimated Number of Recordkeepers: 611.

Estimated Burden Hours Per Recordkeeper: 21 hours.

Frequency of Response: Other (Daily).

Estimated Total Recordkeeping Burden: 12,831 hours.

OMB Number: 1512-0385.

Recordkeeping Requirement ID Number: ATF REC 5900/1.

Type of Review: Extension.

Title: Proprietors or Claimants Exporting Liquors.

Description: Distilled spirits, wine and beer may be exported from bonded premises without payment of excise taxes, or, they may be exported if their taxes have been paid and the exporters may claim drawback of the taxes paid. The record is needed to allow the amounts exported to be verified and to maintain accountability over products. The records protect the revenue.

Respondents: Business or other for-profit.

Estimated Number of Recordkeepers: 120.

Estimated Burden Hours Per Respondent: 60 hours.

Frequency of Response: On occasion.

Estimated Total Recordkeeping Burden: 7,200 hours.

OMB Number: 1512-0528.

Form Number: None.

Type of Review: Extension.

Title: Administrative Remedies—Closing Agreements.

Description: This is a written agreement between ATF and regulated taxpayers used to finalize and resolve certain tax related issues. Once an agreement is approved, it will not be reopened unless fraud or misrepresentation of material facts are proven.

Respondents: Business or other for-profit.

Estimated Number of Respondents: 1.

Estimated Burden Hours Per Respondent: 1 hour.

Frequency of Response: On occasion.

Estimated Total Reporting Burden: 1 hour.

OMB Number: 1512-0533.

Recordkeeping Requirement ID Number: ATF REC 5210/2.

Type of Review: Extension.

Title: Drawback of Tax on Tobacco Products and Cigarette Papers and Tubes-Export Shipment.

Description: Exporters may file claim for drawback of tax on tobacco products and cigarette papers and tubes which have been taxpaid and are to be exported. Needed to ensure drawback of tax is properly documented and justified.

Respondents: Business or other for-profit.

Estimated Number of Recordkeepers: 1.

Estimated Burden Hours Per Recordkeeper: 5 hours.

Frequency of Response: On occasion.

Estimated Total Recordkeeping Burden: 5 hours.

OMB Number: 1512-0564.

Form Number: None.

Type of Review: Extension.

Title: A National Repository for the Collection and Inventory of Information Related to Arson and the Criminal Misuse of Explosives.

Description: These regulations implement Public Law 104-208 of the Omnibus Consolidated Appropriation Act of 1997. These regulations require the reporting of all Federal agencies information related to arson and the suspected misuse of explosives. It also allows for the voluntary submission of said information by State and Local agencies.

Respondents: State, Local, or Tribal Government, Federal Government.

Estimated Number of Respondents: 100.

Estimated Burden Hours Per Respondent: 10 minutes.

Frequency of Response: Quarterly.

Estimated Total Reporting Burden: 17 hours.

Clearance Officer: Frank Bowers, (202) 927-8930, Bureau of Alcohol, Tobacco and Firearms, Room 3200, 650 Massachusetts Avenue, NW, Washington, DC 20226.

OMB Reviewer: Alexander T. Hunt, (202) 395-7860, Office of Management and Budget, Room 10202, New Executive Office Building, Washington, DC 20503.

Mary A. Able,
Departmental Reports, Management Officer.

[FR Doc. 01-29578 Filed 11-27-01; 8:45 am]

BILLING CODE 4810-31-P